DEPARTMENT OF THE INTERIOR

National Park Service

Notice of Availability of the Abbreviated Final General Management Plan/Environmental Impact Statement for Minuteman Missile National Historic Site, SD

SUMMARY: Pursuant to Section 102(2)(C) of the National Environmental Policy Act of 1969, 42 U.S.C. 4332(2)(C), the National Park Service (NPS) announces the availability of the Abbreviated Final General Management Plan (GMP)/Environmental Impact Statement (EIS) for Minuteman Missile National Historic Site, South Dakota.

DATES: The final GMP/EIS will remain available for public review for 30 days following the publishing of the notice of availability in the Federal Register by the U.S. Environmental Protection Agency.

ADDRESSES: Requests for copies should be sent to Superintendent Mark Herberger, Minuteman Missile National Historic Site, 21280 South Dakota Highway 240, Philip, South Dakota 57567, by telephone at 605-433-5552, or by electronic mail to Mark_E_Herberger@nps.gov. You may also view the document via the Internet through the NPS Planning, Environment, and Public Comment Web site (http://parkplanning.nps.gov); simply click on the link to Minuteman Missile National Historic Site.

SUPPLEMENTARY INFORMATION: The NPS studied a no-action and three action management alternatives that vary in how Delta One and Delta Nine might be presented to visitors. The concept for alternative 4, the preferred alternative, commemorates the Cold War by presenting Delta One in its ready-alert status and by presenting Delta Nine in its stand-down appearance. The plan includes the preferred location for a 7,700 square-foot visitor/administrative facility to be placed north of exit 131 in 2 stages. The first stage starts with constructing a stand-alone visitor center of 5,300 square feet. Its design will be such that the administrative portion of the second stage can be added at a later date. A shuttle system will be developed for operation after such a time as the level of visitation warrants. In lieu of a shuttle, visitors will drive to both Delta One and Delta Nine. Visitors benefit from this plan because of opportunities to see and learn about the missile sites as symbols that commemorate the Cold War including guided tours, onsite interpretive media, and interpretive programs at the envisioned visitor/administrative facility.

The NPS prepared a Draft GMP/EIS for Minuteman Missile National Historic Site and made it available for public review for 60 days (February 29 through April 29, 2008), during which time the NPS distributed more than 200 copies of the draft. In addition to the distribution, the Draft GMP/EIS was also made available at the national historic site, on the Internet, and at area libraries. In response, a total of 46 written comments were received on the draft document, and 72 participants attended public meetings. The consensus from the public comment period was that the NPS is pursuing the correct path for the national historic site in alternative 4, the preferred alternative. Comments from individuals and public agencies did not require the NPS to add other alternatives, significantly alter existing alternatives, or make changes to the impact analysis of the effects of any alternative. Because of the lack of substantive comments, the NPS is issuing an abbreviated Final EIS/GMP.

FOR FURTHER INFORMATION CONTACT: Contact Superintendent Mark Herberger, Minuteman Missile National Historic Site, at the address, telephone number, or e-mail address above.

Dated: May 12, 2009.
Alan M. Hutchings,
Acting Regional Director, Midwest Region.

[FR Doc. E9-11891 Filed 5-20-09; 8:45 am]

BILLING CODE P